COMMISSION ON OCEAN POLICY

Preliminary Report

ACTION: Notice of public availability and comment period.

SUMMARY: The U.S. Commission on Ocean Policy was established pursuant to the Oceans Act of 2000 to make recommendations to the President and Congress for a coordinated and comprehensive national ocean policy. The preliminary draft of the final report is being made available to the nation's Governors and other interested parties for their review and comment.

DATES: The preliminary report will be available for public review on April 20, 2004. Comments on the report must be received in the Commission office no later than the close of business on May 21, 2004, e.t.

ADDRESSES: Send electronic comments (e-mail) to: comments@oceancommission.gov. Comments may also be mailed to: U.S. Commission on Ocean Policy, 1120 20th Street, NW., Suite 200 North, Washington, DC 20036. Comments may be sent by facsimile to: 202-418-3475.

FOR FURTHER INFORMATION CONTACT: Michael Kearns, U.S. Commission on Ocean Policy, 1120 20th Street, NW., Washington, DC 20036, 202-418-3442, kearns@oceancommission.gov.

SUPPLEMENTARY INFORMATION: This notice is being issued pursuant to the Oceans Act 2000 (Pub. L. 106-256, sec. 3(g)(1)(A)). The report and detailed instructions for submitting comments will be available at the Commission's Web site, www.oceancommission.gov, on April 20, 2004, when the report is released to the public. The report is also available for public review at the Commission's office at 1120 20th Street, NW., Suite 200 North, Washington, DC 20036, from 2 p.m.-5 p.m. e.t. on April 20th and thereafter from 9 a.m.-5 p.m. e.t., Monday through Friday, during the remainder of the comment period. Comments sent by facsimile should include the words “Public Comment on Preliminary Report” on the coversheet. All public comments must include the individual's name, institutional affiliation (optional), address, telephone number, and e-mail address. Comments should contain no attachments. All public comments received will be reviewed by the Commission and will become part of the official record of its work. Only comments received electronically will be acknowledged. Public comments will not be posted to the Web site. Sufficient time will be allowed for any needed changes to the report as a result of gubernatorial or other stakeholder comments. When such changes are made and the final report is approved by the Commission, it will be transmitted to the President and Congress.

Dated: April 9, 2004.
Thomas R. Kitsos,
Executive Director.

[FR Doc. 04-8546 Filed 4-14-04; 8:45 am]

BILLING CODE 6820-WM-P